DEPARTMENT OF COMMERCE

International Trade Administration

[A-449-804, A-455-803, A-560-811, A-570-860, A-822-804, A-823-809, A-841-804]

Steel Concrete Reinforcing Bars From Belarus, the People's Republic of China, Indonesia, Latvia, Moldova, Poland, and Ukraine: Final Results of Expedited Third Sunset Reviews of the Antidumping Duty Orders

AGENCY: Enforcement and Compliance, International Trade Administration, Department of Commerce.

SUMMARY: As a result of these sunset reviews, the Department of Commerce (Commerce) finds that revocation of the antidumping duty (AD) orders on steel concrete reinforcing bars (rebar) from Belarus, the People's Republic of China (China), Indonesia, Latvia, Moldova, Poland, and Ukraine would likely lead to a continuation or recurrence of dumping at the dumping margins identified in the “Final Results of Review” section of this notice.

DATES: Applicable October 5, 2018.

FOR FURTHER INFORMATION CONTACT: Keith Haynes, AD/CVD Operations, Office III, Enforcement and Compliance, International Trade Administration, U.S. Department of Commerce, 1401 Constitution Avenue NW, Washington, DC 20230; telephone: (202) 482-5139.

SUPPLEMENTARY INFORMATION:

Background

On June 1, 2018, Commerce published the notice of initiation of the third sunset reviews of the antidumping duty Orders ¹ on rebar from Belarus, China, Indonesia, Latvia, Moldova, Poland, and Ukraine, pursuant to section 751(c)(2) of the Tariff Act of 1930, as amended (the Act).² On June 12, 2018, Commerce received notices of intent to participate from the Rebar Trade Action Coalition (a domestic interested party) within the deadline specified in 19 CFR 351.218(d)(1)(i).³ RTAC claimed interested party status under section 771(9)(C) of the Act, as a domestic producer of rebar.⁴

¹ See Antidumping Duty Orders: Steel Concrete Reinforcing Bars from Belarus, Indonesia, Latvia, Moldova, People's Republic of China, Poland, Republic of Korea and Ukraine, 66 FR 46777 (September 7, 2001) (collectively, Orders). On August 9, 2007, Commerce suspended the antidumping duty investigation and signed a suspension agreement on rebar from Korea. See Steel Concrete Reinforcing Bars from South Korea: Revocation of Antidumping Duty Order, 72 FR 44830 (August 9, 2007).

² See Initiation of Five-Year (Sunset) Reviews, 83 FR 25436 (June 1, 2018).

³ See letters from RTAC, “Steel Concrete Reinforcing Bars from the People's Republic of China: Notice of Intent to Participate,” dated June 12, 2018 (China NOITP); “Steel Concrete Reinforcing Bars from Ukraine: Notice of Intent to Participate,” dated June 12, 2018 (Ukraine NOITP); “Steel Concrete Reinforcing Bars from Belarus: Notice of Intent to Participate,” dated June 12, 2018 (Belarus NOITP); “Steel Concrete Reinforcing Bars from Indonesia: Notice of Intent to Participate,” dated June 12, 2018 (Indonesia NOITP); “Steel Concrete Reinforcing Bars from Latvia: Notice of Intent to Participate,” dated June 12, 2018 (Latvia NOITP); “Steel Concrete Reinforcing Bars from Moldova: Notice of Intent to Participate,” dated June 12, 2018 (Moldova NOITP); “Steel Concrete Reinforcing Bars from Poland: Notice of Intent to Participate,” dated June 12, 2018 (Poland NOITP).

⁴ See China NOITP at 1-2; Ukraine NOITP at 1-2; Belarus NOITP at 1-2; Indonesia NOITP at 1-2; Latvia NOITP at 1-2; Moldova NOITP at 1-2; Poland NOITP at 1-2.

On June 12, 2018, Commerce received complete substantive responses from the domestic interested party within the 30-day deadline specified in 19 CFR 351.218(d)(3)(i).⁵ We did not receive any responses from respondent interested parties in these proceedings. As a result, pursuant to 19 CFR 351.218(e)(1)(ii)(C)(2), Commerce conducted expedited (120-day) sunset reviews of the Orders.

⁵ See letters from RTAC, “Steel Concrete Reinforcing Bars from the People's Republic of China: Substantive Response to Notice of Initiation,” dated July 2, 2018 (China Substantive Response); “Steel Concrete Reinforcing Bars from Belarus: Substantive Response to Notice of Initiation,” dated July 2, 2018 (Belarus Substantive Response); “Steel Concrete Reinforcing Bars from Indonesia: Substantive Response to Notice of Initiation,” dated July 2, 2018 (Indonesia Substantive Response); “Steel Concrete Reinforcing Bars from Latvia: Substantive Response to Notice of Initiation,” dated July 2, 2018 (Latvia Substantive Response); “Steel Concrete Reinforcing Bars from Moldova: Substantive Response to Notice of Initiation,” dated July 2, 2018 (Moldova Substantive Response); “Steel Concrete Reinforcing Bars from Poland: Substantive Response to Notice of Initiation,” dated July 2, 2018 (Poland Substantive Response); “Steel Concrete Reinforcing Bars from Ukraine: Substantive Response to Notice of Initiation,” dated July 2, 2018 (Ukraine Substantive Response).

Scope of the Orders

There are existing antidumping duty orders on rebar from Belarus, China, Indonesia, Latvia, Moldova, Poland, and Ukraine.⁶

⁶ See Steel Concrete Reinforcing Bars from Belarus, Indonesia, Latvia, Moldova, Poland, the People's Republic of China, and Ukraine: Continuation of Antidumping Duty Orders, 78 FR 43858 (July 22, 2012) (Second Sunset Continuation Order).

The products covered by the Orders are all steel concrete reinforcing bars sold in straight lengths, currently classifiable in the Harmonized Tariff Schedule of the United States (HTSUS) under item numbers 7214.20.00, 7228.30.8050, 7222.11.0050, 7222.30.0000, 7228.60.6000, 7228.20.1000, or any other tariff item number. Specifically excluded are plain rounds (i.e., non-deformed or smooth bars) and rebar that has been further processed through bending or coating.

HTSUS subheadings are provided for convenience and customs purposes. The written description of the scope of the orders is dispositive.

Analysis of Comments Received

All issues raised in these sunset reviews, including the likelihood of continuation or recurrence of dumping and the magnitude of the margins likely to prevail if the Orders were revoked, are addressed in the Issues and Decision Memorandum, dated concurrently with and hereby adopted by this notice.⁷ The Issues and Decision Memorandum is a public document and is on file electronically via Enforcement and Compliance's Antidumping and Countervailing Duty Centralized Electronic Service System (ACCESS). ACCESS is available to registered users at https://access.trade.gov and to all parties in the Central Records Unit, Room B8024 of the main Department of Commerce building. In addition, a complete version of the Issues and Decision Memorandum can be accessed at http://enforcement.trade.gov/frn/. The signed Issues and Decision Memorandum and the electronic version of the Issues and Decision Memorandum are identical in content.

⁷ See Commerce's memorandum, “Issues and Decision Memorandum for the Final Results of the Expedited Third Sunset Reviews of the Antidumping Duty Orders on Steel concrete reinforcing bars from the People's Republic of Belarus, China, Indonesia, Latvia, Moldova, Poland, and Ukraine,” dated concurrently with this notice (Issues and Decision Memorandum).

Final Results of Reviews

Pursuant to section 751(c)(1) and 752(c)(1) and (3) of the Act, we determine that revocation of the Orders would be likely to lead to continuation or recurrence of dumping, and that the magnitude of the dumping margins likely to prevail would be weighted-average dumping margins up to 114.53 percent for Belarus, 133.00 percent for China, 71.01 percent for Indonesia, 16.99 percent for Latvia, 232.86 percent for Moldova, 52.07 percent for Poland, and 41.69 percent for Ukraine.

Notification Regarding Administrative Protective Order

This notice also serves as the only reminder to parties' subject to administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752(c), and 777(i)(1) of the Act and 19 CR 351.218.

Dated: October 1, 2018.
Gary Taverman,
Deputy Assistant Secretary for Antidumping and Countervailing Duty Operations, performing the non-exclusive functions and duties of the Assistant Secretary for Enforcement and Compliance.

[FR Doc. 2018-21731 Filed 10-4-18; 8:45 am]

BILLING CODE 3510-DS-P